DEPARTMENT OF TRANSPORTATION

Federal Aviation Administration

Advisory Circular; Instructions for Continued Airworthiness: In-Service Inspection of Safety Critical Turbine Engine Parts at Piece-Part Opportunity

AGENCY: Federal Aviation Administration, DOT.

ACTION: Notice of availability of advisory circular on in-service inspection of safety critical turbine engine parts at piece-part opportunity.

SUMMARY: The Federal Aviation Administration (FAA) announces the availability of advisory circular (AC) No. 33.4-2, Instructions for Continued Airworthiness: In-Service Inspection of Safety Critical Turbine Engine Parts at Piece-Part Opportunity.

DATES: The Engine and Propeller Directorate, Aircraft Certification Service, issued AC 33.4-2 on March 8, 2001.

FOR FURTHER INFORMATION CONTACT: Mark Liptak, Engine and Propeller Standards Staff, ANE-110, 12 New England Executive Park, Burlington, MA 01803; telephone: (781) 238-7749; fax: (781) 238-7199; e-mail: mark.liptak@faa.gov. The subject AC is available on the Internet at the following address: www.faa.gov/avr/air/acs/achome.htm.

SUPPLEMENTARY INFORMATION: The FAA published a notice in the Federal Register on March 17, 2000 (65 FR 14641) to announce the availability of the proposed AC and invite interested parties to comment.

Background

This AC provides guidance and acceptable methods, but not the only methods, that may be used to demonstrate compliance with the requirements of 14 CFR 33.4, Instructions for Continued Airworthiness, for in-service inspections of safety critical turbine engine parts at piece-part opportunity. Analysis of fifteen years of transport aircraft accident and incident data shows that the leading cause of engine related CAAM level 3 and 4 accidents for turbofan engines is the uncontained failure of safety critical parts. The failure of safety critical parts can present a significant hazard to an aircraft by releasing fragments that can penetrate the cabin or fuel tanks, damage control surfaces, or sever flammable fluid or hydraulic lines. To significantly reduce the occurrence of these incidents, part features most critical to safety should be subjected to in-service inspections at each piece-part opportunity during their service lives, using methods that detect flaws that could lead to failure.

(Authority: 49 U.S.C. 106(g), 40113, 44701-44702, 44704)

Issued in Burlington, Massachusetts, on March 9, 2001.
Jay J. Pardee,
Manager, Engine and Propeller Directorate, Aircraft Certification Service.

[FR Doc. 01-6701 Filed 3-16-01; 8:45 am]

BILLING CODE 4910-13-M